FEDERAL COMMUNICATIONS COMMISSION

47 CFR Part 73

[MB Docket No. 22-30; RM-11916; DA 22-66; FR ID 69356]

Television Broadcasting Services Vernon, Alabama

AGENCY: Federal Communications Commission.

ACTION: Proposed rule.

SUMMARY: The Commission has before it a petition for rulemaking filed by Alabama Educational Television Commission (Petitioner), requesting the allotment of reserved noncommercial educational channel *4 at Vernon, Alabama, as the community's first local service.

DATES: Comments must be filed on or before March 7, 2022 and reply comments on or before March 21, 2022.

ADDRESSES: Federal Communications Commission, Office of the Secretary, 45 L Street NE, Washington, DC 20554. In addition to filing comments with the FCC, interested parties should serve the Petitioner as follows: M. Scott Johnson, Esq., Smithwick & Belendiuk, PC, 5028 Wisconsin Avenue NW, Washington, DC 20016.

FOR FURTHER INFORMATION CONTACT: Joyce Bernstein, Media Bureau, at (202) 418-1647; or Joyce Bernstein, Media Bureau, at Joyce.Bernstein@fcc.gov.

SUPPLEMENTARY INFORMATION: In support of its channel allotment request, the Petitioner states that Vernon is a community deserving of a new television broadcast service. According to the Petitioner, Vernon (pop. 5,551/2010 Census) has a mayor, Board of Registrars, Circuit Clerk, Judge Probate, Sheriff, and six-member City Council. The community also has police, fire, and utility departments, as well as a public library, regional hospital, airport, numerous businesses and places of worship, and its own Zip Code. In addition, the proposed allotment would allow the provision of noncommercial educational television service to areas not currently served by Alabama Educational Television Commission (AETC). The Petitioner states its intention to file an application for channel *4, if allotted, and take all necessary steps to obtain a construction permit. The Commission concludes the request to amend the Table of Allotments warrants consideration. The Petitioner's proposal would result in a first local service to Vernon consistent with the Commission's television allotment policies. Channel *4 can be allotted to Vernon, consistent with the minimum geographic spacing requirements for new digital television (DTV) allotments in § 73.623(d) of the Commission's rules, at 33°54′44.26″ N and 87°48′06.20″ W. In addition, the allotment point complies with § 73.625(a)(1) of the rules as the entire community of Vernon is encompassed by the 35 dBμ contour.

This is a synopsis of the Commission's Notice of Proposed Rulemaking, MB Docket No. 22-30; RM-11916; DA 22-30, adopted January 20, 2022, and released January 20, 2022. The full text of this document is available for download at https://www.fcc.gov/edocs. To request materials in accessible formats (braille, large print, computer diskettes, or audio recordings), please send an email to FCC504@fcc.gov or call the Consumer & Government Affairs Bureau at (202) 418-0530 (VOICE), (202) 418-0432 (TTY).

This document does not contain information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4). Provisions of the Regulatory Flexibility Act of 1980, 5 U.S.C. 601-612, do not apply to this proceeding.

Members of the public should note that all ex parte contacts are prohibited from the time a notice of proposed rulemaking is issued to the time the matter is no longer subject to Commission consideration or court review, see 47 CFR 1.1208. There are, however, exceptions to this prohibition, which can be found in § 1.1204(a) of the Commission's rules, 47 CFR 1.1204(a).

See §§ 1.415 and 1.420 of the Commission's rules for information regarding the proper filing procedures for comments, 47 CFR 1.415 and 1.420.

List of Subjects in 47 CFR Part 73

Television.

Federal Communications Commission.
Thomas Horan,
Chief of Staff, Media Bureau.

Proposed Rule

For the reasons discussed in the preamble, the Federal Communications Commission proposes to amend 47 CFR part 73 as follows:

PART 73—RADIO BROADCAST SERVICES

1. The authority citation for part 73 continues to read as follows:

Authority: 47 U.S.C. 154, 155, 301, 303, 307, 309, 310, 334, 336, 339.

2. In § 73.622(j), amend the Table of Allotments under Alabama by adding an entry for Vernon in alphabetical order to read as follows:

§ 73.622 Digital television table of allotments.

* * * * *

(j) * * *

Community | Channel No.
ALABAMA
* * * * *
Vernon | * 4
* * * * *

[FR Doc. 2022-02212 Filed 2-2-22; 8:45 am]

BILLING CODE 6712-01-P